DEPARTMENT OF TRANSPORTATION

National Highway Traffic Safety Administration

[Docket No. NHTSA 2002-13014; Notice 1]

Dorel Juvenile Group; Receipt of Application for Determination of Inconsequential Non-Compliance

Dorel Juvenile Group [Cosco] (DJG), of Columbus, Indiana, failed to comply with S5.1.1(a) of Federal Motor Vehicle Safety Standard (FMVSS) No. 213, “Child Restraint Systems,” and has filed an appropriate report pursuant to 49 CFR Part 573, “Defect and Noncompliance Reports.” DJG has also applied to be exempted from the notification and remedy requirements of 49 U.S.C. Chapter 301—“Motor Vehicle Safety” on the basis that the noncompliance is inconsequential to motor vehicle safety.

This notice of receipt of the application is published under 49 U.S.C. 30118 and 30120 and does not represent any agency decision or other exercise of judgement concerning the merits of the application.

The following summarizes the DJG petition based upon information provided with the petition in accordance with the requirements of 49 CFR Part 556, “Exemption for Inconsequential Defect or Noncompliance.”

Summary of the Petition

On September 7, 2001, as a result of its fiscal year 2001 testing, NHTSA notified DJG of a potential noncompliance regarding DJG's child restraint system (CRS). The noncompliance is the separation of the tether strap and steel belt slot adjustment channel from the Cosco Alpha Omega CRS seat shell produced from November 1, 2000 through January 10, 2001 (6 Models and 86,476 units). S5.1.1(a) of FMVSS No. 213 states that each child restraint system shall “Exhibit no complete separation of any load bearing structural element * * *.”

DJG does not think that tether separation during the sled test is the same as a complete separation of a load bearing structural element. DJG believes that the regulatory history of S5.1.1 shows that the purpose of the requirement is to reduce the likelihood of injury during collapse or disintegration of the system; therefore, the cutting of the tether strap does not present a risk of collapse or disintegration. DJG states that the agency's compliance test data show tether separation of the Alpha Omega CRS under dynamic loading provides significantly improved results compared to other Alpha Omega CRS without tether separation under dynamic loading. Therefore, DJG filed this petition on the basis that the noncompliance is inconsequential to motor vehicle safety.

Availability of the Petition and Other Documents

The petition and other relevant information are available for public inspection in NHTSA Docket No. NHTSA-2002-13014. You may call the Docket at (202) 366-9324 or you may visit the Docket Management in Room PL-401, 400 Seventh Street, SW., Washington, DC 20590 (10 a.m. to 5 p.m., Monday through Friday). You may also view the petition and other relevant information on the Internet. To do this, do the following:

(1) Go to Docket Management System (DMS) Web page for the Department of Transportation (http://dms.dot.gov/search).

(2) On the next page (http://dms.dot.gov/search/SearchFormSimple.cfm), type the docket number “13014.” After typing the docket number, click on “search.”

(3) On the next page, which contains docket summary information for the docket you selected, click on the desired comments. You may download the comments and other materials.

Comments

Interested persons are invited to submit written data, views and arguments on the petition of DJG described above. Comments should refer to the Docket Number and be submitted to: U.S Department of Transportation Docket Management, Room PL 401, 400 Seventh Street, SW., Washington, DC 20590. It is requested that two copies be submitted.

All comments received before the close of business on the closing date indicated below will be considered. The application and supporting materials, and all comments received after the closing date will also be filed and will be considered to the extent practicable. When the application is granted or denied, the Notice will be published in the Federal Register pursuant to the authority indicated below.

Comment closing date: October 7, 2002.

(49 U.S.C. 30118, 30120; delegations of authority at 49 CFR 1.50 and 49 CFR 501.8)

Issued on: August 29, 2002.
Stephen R. Kratzke,
Associate Administrator for Rulemaking.

[FR Doc. 02-22552 Filed 9-4-02; 8:45 am]

BILLING CODE 4910-59-P